DEPARTMENT OF THE TREASURY

Office of Foreign Assets Control

Proposed Collection; Comment Request for Request for a Specific License To Visit an Immediate Family Member in Cuba

AGENCY: Office of Foreign Assets Control, Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of Foreign Assets Control (“OFAC”) within the Department of the Treasury is soliciting comments concerning OFAC's “Request for a Specific License to Visit an Immediate Family Member in Cuba who is a National of Cuba once in a three year period” Application Form TD-F 90-22.60 and TD-F 90-22.60 (SP).

DATES: Written comments should be received on or before May 2, 2005, to be assured of consideration.

ADDRESSES: Direct all written comments to the Records Division, Office of Foreign Assets Control, Department of the Treasury, 1500 Pennsylvania Avenue, NW., Annex—2d Floor, Washington, DC 20220.

FOR FURTHER INFORMATION CONTACT: Requests for additional information about the filings or procedures should be directed to Licensing Division, Office of Foreign Assets Control, Department of the Treasury, 1500 Pennsylvania Avenue, NW., 1500 Pennsylvania Avenue, Annex—2d Floor, Washington, DC 20220.

SUPPLEMENTARY INFORMATION: Title: OFAC Form “Request for a Specific License to Visit an Immediate Family Member in Cuba who is a National of Cuba once in a three year period.”

Agency Form Number: TD-F 90-22.60 and TD-F 90-22.60 (SP).

OMB Number: 1505-0202.

Abstract: On October 10, 2003, the President announced the establishment of a Commission for Assistance to a Free Cuba, which he tasked with identifying ways to hasten Cuba's transition to a free and open society. On May 1, 2004, the Commission delivered its Report to the President recommending, among other things, changes to the U.S. sanctions with respect to Cuba. On May 6, 2004, the President directed the implementation of certain of the Commission's recommendations. The Office of Foreign Assets Control (“OFAC”) issued an interim final rule on June 16, 2004, implementing these recommendations through amendments to the Cuban Assets Control Regulations, effective June 30, 2004.

These amendments, among other things, changed the rules regarding travel-related transactions incident to visiting relatives in Cuba. Prior to the amendments, a person with a Cuban national close relative (defined to include second cousins) in Cuba could engage in travel-related transactions incident to visiting that relative once every 12 months under a general license (no application necessary) and more often pursuant to a specific license, if requested. Effective June 30, 2004, the once-per-twelve-months general license was eliminated. OFAC now issues specific licenses authorizing travel-related transactions incident to visits to members of a person's immediate family (defined much more narrowly) who are nationals of Cuba once per three-year period and for no more than 14 days.

In order to ensure that the one-trip-per-three-year-period and other requirements are not violated, OFAC uses forms TD-F 90-22.60 and TD-F 90-22.60 (SP) to collect information on the traveler and the family members in Cuba whom the traveler is visiting. The form is provided in English and Spanish to accommodate those persons for whom Spanish is the primary language. The use of the form provides a standardized method of information collection, ensures uniform and consistent compliance, and allows OFAC to maintain detailed records that enable OFAC to verify that travelers are not exceeding the restriction of the frequency of visits to Cuba and that they are only visiting members of their immediate family.

Current Actions: There are no changes being made to the form at this time.

Type of Review: Extension of a currently approved collection.

Affected Public: Individuals or households.

Estimated Number of Respondents: 35,000.

Estimated Time Per Respondent: 10 minutes.

Estimated Total Annual Burden Hours: 5,833.

The following paragraph applies to all of the collections of information covered by this notice:

An agency may not conduct or sponsor, and a person is not required to respond to, a collection of information unless the collection of information displays a valid Office of Management and Budget (“OMB”) control number. Books or records relating to a collection of information must be retained for five years.

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: February 23, 2005.
Robert W. Werner,
Director, Office of Foreign Assets Control.

[FR Doc. 05-4006 Filed 3-1-05; 8:45 am]

BILLING CODE 4810-25-P